DEPARTMENT OF DEFENSE

Department of the Army; Corps of Engineers

Inland Waterways Users Board

AGENCY: Department of the Army, U.S. Army Corps of Engineers, DoD.

ACTION: Notice of open meeting.

SUMMARY: In Accordance with 10(a)(2) of the Federal Advisory Committee Act (Pub. L. 92-463), announcement is made of the forthcoming meeting.

Name of Committee: Inland Waterways Users Board (Board).

Date: June 6, 2012.

Location: The OMNI William Penn Hotel, 530 William Penn Place, Pittsburgh, PA 15219 at 412-281-7100 or 1-800-843-6664 or www.omnihotels.com/FindAHotel/PittsburghWilliamPenn.aspx.

Time: Registration will begin at 8:30 a.m. and the meeting is scheduled to adjourn at approximately 1:00 p.m.

Agenda: The Board will be provided the status of funding for inland navigation projects and studies and the status of the Inland Waterways Trust Fund, the funding status for Fiscal Year (FY) 2012 and the FY 2013 budget, an update of the Inland Marine Transportation System (IMTS) Capital Projects Business Model, presentation of the IMTS Levels of Service Initiative, as well as an update of Olmsted Locks and Dam Project.

FOR FURTHER INFORMATION CONTACT: Mr. Mark R. Pointon, Headquarters, U.S. Army Corps of Engineers, CECW-ID, 441 G Street NW., Washington, DC 20314-1000; Ph: 202-761-4691.

SUPPLEMENTARY INFORMATION: The meeting is open to the public. Any interested person may attend, appear before, or file statements with the committee at the time and in the manner permitted by the committee.

Brenda S. Bowen,
Army Federal Register Liaison Officer.

[FR Doc. 2012-10771 Filed 5-3-12; 8:45 am]

BILLING CODE 3720-58-P